DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 26, 2009.

Interested persons are invited to submit written comments regarding the subject matter of the investigations to the Director, Division of Trade Adjustment Assistance, at the address shown below, not later than January 26, 2009.

The petitions filed in this case are available for inspection at the Office of the Director, Division of Trade Adjustment Assistance, Employment and Training Administration, U.S. Department of Labor, Room N-5428, 200 Constitution Avenue, NW., Washington, DC 20210.

Signed at Washington, DC, this 8th day of January 2009.
Linda G. Poole,
Certifying Officer, Division Trade Adjustment Assistance.

Appendix
[TAA petitions instituted between 12/22/08 and 12/24/08]
TA-W | Subject firm (petitioners) | Location | Date of institution | Date of petition
64752 | Pearson/a Furniture Brands International Co. (Comp) | High Point, NC | 12/22/08 | 12/19/08
64753 | Restoration Hardware/The Michaels Furniture Co. (Wkrs) | Sacramento, CA | 12/22/08 | 12/19/08
64754 | Klaussner Furniture Industries, Inc. (Rep) | Candor, NC | 12/22/08 | 12/18/08
64755 | Rea Magnet Wire Company (Comp) | Las Cruces, NM | 12/22/08 | 12/08/08
64756 | Air Liquide Electronics U.S. LP (Comp) | Dallas, TX | 12/22/08 | 12/19/08
64757 | Ferro Corporation (Wkrs) | Toccoa, GA | 12/22/08 | 12/18/08
64758 | Fortis Plastics, LLC (Comp) | Alamo, TX | 12/22/08 | 12/19/08
64759 | Formica Corporation (State) | Rocklin, CA | 12/22/08 | 12/19/08
64760 | HDM/Drexel Heritage Furniture Industries, Inc., Plant 75/CRC (Comp) | Morganton, NC | 12/22/08 | 12/19/08
64761 | Swift Spinning, Inc. (Comp) | Columbus, GA | 12/23/08 | 12/03/08
64762 | Syracuse Gauge Company (Comp) | Syracuse, NY | 12/23/08 | 12/22/08
64763 | Andrew, LLC (Comp) | Joliet, IL | 12/23/08 | 12/22/08
64764 | Alcoa Primary Metals—Intalco Works (IAMAW) | Ferndale, WA | 12/23/08 | 12/15/08
64765 | Dana Holding Corporation (Wkrs) | Danville, KY | 12/23/08 | 12/22/08
64766 | Veyance Technologies, Inc. (USW) | Sun Prairie, WI | 12/23/08 | 12/22/08
64767 | Garrity Industries, Inc. (Comp) | Ashaway, RI | 12/23/08 | 12/15/08
64768 | HDM Morganton Operations (Comp) | Morganton, NC | 12/23/08 | 12/22/08
64769 | True Temper Sports (Wkrs) | Amory, MS | 12/23/08 | 12/22/08
64770 | DSI Ground Support (Wkrs) | Blairsville, PA | 12/23/08 | 12/11/08
64771 | Hanesbrands, Inc. (Comp) | China Grove, NC | 12/23/08 | 12/17/08
64772 | East Tennessee Zinc Company, LLC (Wkrs) | Strawberry Plains, TN | 12/23/08 | 12/19/08
64773 | US Steel Great Lakes Works (Wkrs) | Ecorse, MI | 12/23/08 | 12/19/08
64774 | Anthology, Inc. (Wkrs) | Arlington Heights, IL | 12/23/08 | 12/23/08
64775 | National Semiconductor (Wkrs) | South Portland, ME | 12/23/08 | 12/16/08
64776 | Maitland Smith Furniture Industries (Comp) | High Point, NC | 12/24/08 | 12/23/08
64777 | AD Graphics (State) | Lino Lakes, MN | 12/24/08 | 12/23/08
64778 | Hamilton Sundsland (State) | Windsor Locks, CT | 12/24/08 | 12/23/08

[FR Doc. E9-639 Filed 1-13-09; 8:45 am]

BILLING CODE 4510-FN-P